DEPARTMENT OF COMMERCE

Foreign-Trade Zones Board

[B-27-2024]

Foreign-Trade Zone (FTZ) 22, Notification of Proposed Production Activity; Gotion Inc.; (Lithium Battery Packs and Lithium Battery Systems); Manteno, Illinois

Gotion Inc. submitted a notification of proposed production activity to the FTZ Board (the Board) for its facility in Manteno, Illinois within Subzone 22AF. The notification conforming to the requirements of the Board's regulations (15 CFR 400.22) was received on May 22, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include high voltage lithium battery systems, high voltage battery system control cabinets, and liquid cooled battery packs (duty rate ranges from 2.7 to 3.4%).

The proposed foreign-status materials/components include: structural glue; thermal conductive glue; high voltage warning signs; polyurethane foam strips; glass fiber resin sheets/pads; waterproof blinds; plastic fittings/industrial handles; plug-in panel; wire tie rack; fuse plastic cover; plastic sheath seat; plastic sheath cover; plastic panels; plastic buckles; module brackets; plastic pressure seals/plates; plastic casings; plastic covers; plastic rail fasteners; rubber seals/pads; pan-head screws; hex head combination bolts; hex nuts; steel rivets; electrical switch plates; rail jam (irregular shape); control box body cover/panels; insulating pillar; electrical connectors; copper bars; relief valve; power supply switch; lead acid storage battery; lithium-ion energy storage box/battery; storage battery parts; displays; indicator lights; pre-charge 100 watt resistors; main circuit on/off switches; pre-charge on/off switches; surge protectors; fuses; solenoid valve control modules; isolating switches; power switch buttons; high voltage sockets (positive/negative poles); electrical screw terminals; electrical base control panels; three-level battery management systems; switchgear assemblies; insulated copper winding wire; high voltage wiring harnesses; electricity meters; and electrical current sensors (duty rate ranges from duty-free to 6.6%). The request indicates that certain materials/components may be subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is July 9, 2024.

A copy of the notification will be available for public inspection in the “Online FTZ Information System” section of the Board's website.

For further information, contact Kolade Osho at Kolade.Osho@trade.gov.

Dated: May 23, 2024.
Elizabeth Whiteman,
Executive Secretary.

[FR Doc. 2024-11835 Filed 5-29-24; 8:45 am]

BILLING CODE 3510-DS-P